DEPARTMENT OF THE TREASURY

Office of Foreign Assets Control

Publication of a General License Related to the Foreign Narcotics Kingpin Sanctions Program

AGENCY: Office of Foreign Assets Control, Treasury.

ACTION: Notice, Publication of a General License.

SUMMARY: The Department of the Treasury's Office of Foreign Assets Control (OFAC) is publishing a general license issued in the Foreign Narcotics Kingpin sanctions program.

DATES: Effective Date: October 21, 2015.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic and Facsimile Availability

This document and additional information concerning OFAC are available from OFAC's Web site (www.treasury.gov/ofac). Certain general information pertaining to OFAC's sanctions programs also is available via facsimile through a 24-hour fax-on-demand service, tel.: 202-622-0077.

Background

Recently OFAC issued a general license authorizing certain transactions and activities otherwise prohibited by the sanctions programs OFAC administers. At the time of issuance of the general license, OFAC made that license available on its Web site (www.treasury.gov/ofac). With this notice, OFAC is publishing the general license in the Federal Register. The general license contained in this Notice relates to the Foreign Narcotics Kingpin Sanctions Regulations, 31 CFR part 598.

General License No. 1

Authorizing Certain Transactions and Activities To Liquidate and Wind Down Banco Continental, S.A.

(a) Except as provided in paragraph (b) of this general license, all transactions and activities otherwise prohibited by the Foreign Narcotics Kingpin Sanctions Regulations, 31 CFR part 598, that are for the liquidation and wind down of the Honduran bank, Banco Continental, S.A., including transactions and activities related to the preparation and submission of bids to acquire the assets of Banco Continental, S.A., are authorized through 12:01 a.m. eastern daylight time, December 12, 2015.

(b) This general license does not authorize:

(1) The unblocking of any property blocked pursuant to the Foreign Narcotics Kingpin Sanctions Regulations, 31 CFR part 598; or

(2) Any transactions or dealings otherwise prohibited by any Executive order or any other part of 31 CFR Chapter V, or any transactions or dealings with any individual or entity other than Banco Continental, S.A. that is listed on the Office of Foreign Assets Control's List of Specially Designated Nationals or Blocked Persons or that otherwise constitutes a person whose property and interests in property are blocked.

(c) U.S. persons participating in transactions authorized by this general license are required, within 10 business days after the liquidation and wind-down activities conclude, to file a report, including the parties involved, the type and scope of activities conducted, and the dates of the activities, with the Office of Foreign Assets Control, Licensing Division, U.S. Department of the Treasury, 1500 Pennsylvania Avenue NW., Annex, Washington, DC 20220.

Issued: October 21, 2015.
John E. Smith,
Acting Director, Office of Foreign Assets Control.

[FR Doc. 2015-30206 Filed 11-27-15; 8:45 am]

BILLING CODE 4810-AL-P